DEPARTMENT OF THE INTERIOR

Bureau of Ocean Energy Management

Gulf of Mexico (GOM), Outer Continental Shelf (OCS), Western Planning Area (WPA) Lease Sale 233 and Central Planning Area (CPA) Lease Sale 231, Oil and Gas Lease Sales MMAA104000

AGENCY: Bureau of Ocean Energy Management (BOEM), Interior.

ACTION: Notice of Availability (NOA) of the Final Supplemental Environmental Impact Statement (EIS).

Authority: This NOA is published pursuant to the regulations (40 CFR 1503) implementing the provisions of the National Environmental Policy Act (NEPA) of 1969, as amended (42 U.S.C. 4321 et seq. (1988)).

SUMMARY: BOEM has prepared a Final Supplemental EIS on oil and gas lease sales, including sales tentatively scheduled in 2013 and 2014 in the WPA and CPA offshore the States of Texas, Louisiana, Mississippi, and Alabama. This Final Supplemental EIS updates the environmental and socioeconomic analyses evaluated in the Gulf of Mexico OCS Oil and Gas Lease Sales: 2012-2017; Western Planning Area Lease Sales 229, 233, 238, 246, and 248; Central Planning Area Lease Sales 227, 231, 235, 241, and 247—Final Environmental Impact Statement (OCS EIS/EA BOEM 2012-019) (2012-2017 Multisale EIS), completed in July 2012, in advance of proposed WPA Lease Sale 233 and proposed CPA Lease Sale 231.

SUPPLEMENTARY INFORMATION: BOEM developed this Final Supplemental EIS in advance of proposed WPA Lease Sale 233 and proposed CPA Lease Sale 231 to consider new information made available since completion of the 2012-2017 Multisale EIS and to consider new information available regarding the Deepwater Horizon explosion, oil spill, and cleanup; surveys of scientific journals and available scientific data and information from academic institutions and Federal, State, and local agencies. This Final Supplemental EIS provides updates on the baseline conditions and potential environmental effects of oil and natural gas leasing, exploration, development, and production in the WPA and CPA. BOEM conducted an extensive search for new information, including but not limited to information related to the Deepwater Horizon explosion, oil spill, and cleanup. Subject-matter experts surveyed scientific journals and available scientific data, gathered information, and interviewed personnel from academic institutions and Federal, State, and local agencies. BOEM has examined the potential impacts of routine activities and accidental events, including a possible low-probability, castastrophic event associated with a proposed lease sale, and the incremental contribution of a proposed lease sale to the cumulative impacts on environmental and socioeconomic resources. The oil and gas resource estimates and scenario information for this Final Supplemental EIS are presented as a range that would encompass the resources and activities estimated for a WPA and CPA proposed lease sale.

Final Supplemental EIS Availability: BOEM has printed and will distribute a limited number of paper copies of the EIS. In keeping with the Department of the Interior's mission to protect natural resources and to limit costs while ensuring availability of the document to the public, BOEM will primarily distribute digital copies of this Final Supplemental EIS on compact discs. However, if you require a paper copy, BOEM will provide one upon request if copies are still available.

1. You may obtain a copy of the Final Supplemental EIS from the Bureau of Ocean Energy Management, Gulf of Mexico OCS Region, Public Information Office (GM 250G), 1201 Elmwood Park Boulevard, Room 250, New Orleans, Louisiana 70123-2394 (1-800-200-GULF).

2. You may download or view the Final Supplemental EIS on BOEM's Internet Web site at http://www.boem.gov/Environmental-Stewardship/Environmental-Assessment/NEPA/nepaprocess.aspx.

BOEM has sent copies of the Final Supplemental EIS to several libraries along the Gulf Coast. To find out which libraries have copies of the Final Supplemental EIS for review, you may contact BOEM's Public Information Office or visit BOEM's Internet Web site at http://www.boem.gov/Environmental-Stewardship/Environmental-Assessment/NEPA/nepaprocess.aspx.

FOR FURTHER INFORMATION CONTACT: For more information on the Final Supplemental EIS, you may contact Mr. Gary D. Goeke, Bureau of Ocean Energy Management, Gulf of Mexico OCS Region, Office of Environment (GM 623E), 1201 Elmwood Park Boulevard, New Orleans, Louisiana 70123-2394 or by email at LS_233-231SEIS@boem.gov. You may also contact Mr. Goeke by telephone at (504) 736-3233.

Dated: April 9, 2013.
Tommy P. Beaudreau,
Director, Bureau of Ocean Energy Management.

[FR Doc. 2013-08674 Filed 4-11-13; 8:45 am]

BILLING CODE 4310-MR-P